DEPARTMENT OF ENERGY

Federal Energy Regulatory Commission

Combined Notice of Filings #1

Take notice that the Commission received the following electric rate filings:

Docket Numbers: ER12-1933-008; ER12-1934-007.

Applicants: Interstate Power and Light Company, Wisconsin Power and Light Company.

Description: Notification of Non-material Change in Status of Interstate Power and Light Company, et al.

Filed Date: 8/25/17.

Accession Number: 20170825-5295.

Comments Due: 5 p.m. ET 9/15/17.

Docket Numbers: ER16-1546-003.

Applicants: Southwest Power Pool, Inc.

Description: Compliance filing: Arkansas Electric Cooperative Corporation Formula Rate Compliance Filing to be effective 7/1/2016.

Filed Date: 8/28/17.

Accession Number: 20170828-5106.

Comments Due: 5 p.m. ET 9/18/17.

Docket Numbers: ER17-2110-000.

Applicants: ISO New England Inc.

Description: Response of ISO New England Inc. to August 23, 2017 Deficiency Notice and Request for Waiver of Section 388.112 of the Commission's Regulations.

Filed Date: 8/25/17.

Accession Number: 20170825-5232.

Comments Due: 5 p.m. ET 9/5/17.

Docket Numbers: ER17-2363-000.

Applicants: Midcontinent Independent System Operator, Inc.

Description: § 205(d) Rate Filing: 2017-08-28_Termination of SA 2411 ITC-Detroit Edison E&P Agreement (J122) to be effective 8/29/2017.

Filed Date: 8/28/17.

Accession Number: 20170828-5080.

Comments Due: 5 p.m. ET 9/18/17.

Take notice that the Commission received the following electric securities filings:

Docket Numbers: ES17-53-000.

Applicants: Old Dominion Electric Cooperative, Inc.

Description: Application for Authorization to Issue Short- and Long-term Debt, to Guaranty Obligations, and for Waivers of Old Dominion Electric Cooperative.

Filed Date: 8/28/17.

Accession Number: 20170828-5099.

Comments Due: 5 p.m. ET 9/18/17.

Take notice that the Commission received the following public utility holding company filings:

Docket Numbers: PH17-20-000.

Applicants: BlackRock, Inc.

Description: BlackRock, Inc. submits FERC 65-A Exemption Notification.

Filed Date: 8/25/17.

Accession Number: 20170825-5283.

Comments Due: 5 p.m. ET 9/15/17.

Take notice that the Commission received the following qualifying facility filings:

Docket Numbers: QF17-1404-000.

Applicants: Kimberly-Clark Corporation.

Description: Form 556 of Kimberly-Clark Corporation [Mobile].

Filed Date: 8/25/17.

Accession Number: 20170825-5297.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2017.
Nathaniel J. Davis, Sr.,
Deputy Secretary.

[FR Doc. 2017-18731 Filed 9-1-17; 8:45 am]

BILLING CODE 6717-01-P